ENVIRONMENTAL PROTECTION AGENCY

[FRL-6537-7]

Regulatory Reinvention (XL) Pilot Projects

AGENCY: Environmental Protection Agency (EPA).

ACTION: Notice of availability of United States Postal Service Project XL Draft Final Project Agreement.

SUMMARY: EPA is today requesting comments on a draft Project XL Final Project Agreement (FPA) for United States Postal Service (USPS).

DATES: The period for submission of comments ends on March 16, 2000.

ADDRESSES: All comments on the draft Final Project Agreement should be sent to: Mary Byrne, 999 18th Street, Suite 500, Denver, CO 80202-2466, or L. Nancy Birnbaum, U.S. EPA, 401 M Street, SW, Room 1025WT (1802), Washington, DC 20460. Comments may also be faxed to Ms. Byrne at (303) 312-6741 or Ms. Birnbaum at (202) 401-2474. Comments will also be received via electronic mail sent to: byrne.mary@epa.gov or birnbaum.nancy@epa.gov.

FOR FURTHER INFORMATION CONTACT: To obtain a copy of the draft Final Project Agreement, contact: Mary Byrne, 999 18th Street, Suite 500, Denver, CO 80202-2466, or L. Nancy Birnbaum, U.S. EPA, 401 M Street, SW, Room 1025WT (1802), Washington, DC 20460. The documents are also available via the Internet at the following location: “http://www.epa.gov/ProjectXL”. In addition, public files on the Project are located at EPA Region 8 in Denver. Questions to EPA regarding the documents can be directed to Mary Byrne at (303) 312-6491 or L. Nancy Birnbaum at (202) 260-2601. Additional information on Project XL, including documents referenced in this notice, other EPA policy documents related to Project XL, application information, and descriptions of existing XL projects and proposals, is available via the Internet at “http://www.epa.gov/ProjectXL”.

SUPPLEMENTARY INFORMATION: The FPA is a voluntary agreement developed by USPS, stakeholders, the State of Colorado, and EPA. Project XL, announced in the Federal Register on May 23, 1995 (60 FR 27282), gives regulated sources the flexibility to develop alternative strategies that will replace or modify specific regulatory requirements on the condition that they produce greater environmental benefits. If implemented, the draft FPA anticipates that USPS would receive up to 794 emission credits under Colorado's clean fuel fleet requirements. In exchange for these credits, the USPS would scrap 512 late-1970s/early-1980s vintage postal vehicles operating in the Denver/Boulder non-attainment area, taking these vehicles off the road permanently. The USPS would also relocate at least 282 Long-Life Vehicles (1987-1991 vintage USPS delivery vehicles). The USPS would commit to using at least 794 alternative fuel vehicles in the Denver area and helping to stimulate the development of a public infrastructure to support these vehicles.

Dated: February 9, 2000.
Richard T. Farrell,
Associate Administrator, Office of Reinvention.

[FR Doc. 00-3491 Filed 2-14-00; 8:45 am]

BILLING CODE 6560-50-P